DEPARTMENT OF AGRICULTURE

Forest Service

Del Norte County Resource Advisory Committee

AGENCY: Forest Service, USDA.

ACTION: Notice of meetings.

SUMMARY: The Del Norte County Resource Advisory Committee (RAC) will meet in Crescent City, California on the dates listed below. The Committee is authorized under the Secure Rural Schools and Community Self-Determination Act (Act) (Pub. L. 112-141) and operates in compliance with the Federal Advisory Committee Act (FACA) (Pub. L. 92-463). The purpose of the Committee is to improve collaborative relationships and to provide advice and recommendations to the Forest Service concerning projects and funding consistent with the Title II of the Act. The meetings are open to the public. The purpose of the meetings are to review prior year project's progress and to review and recommend project proposals.

DATES: The meetings will be held during the month of September beginning at 6:00 p.m. (PST). Exact meeting dates are as follow:

1. September 9, 2013

2. September 10, 2013

3. September 11, 2013

All Resource Advisory Committee meetings are subject to change or cancellation. Prior to attending each meeting, contact: Lynn Wright, RAC Committee Coordinator, Six Rivers National Forest, 707-441-3562, hwright02@fs.fed.us for the status.

ADDRESSES: The meetings will be held at the Del Norte County Unified School District, Redwood Room, 301 West Washington Boulevard, Crescent City, California.

Written comments may be submitted as described under Supplementary Information. All comments, including names and addresses when provided are placed in the record and are available for public inspection and copying. The public may inspect comments received at Six Rivers National Forest Supervisor's Office, 1330 Bayshore Way, Eureka, CA. Please call ahead to 707-442-1721 to facilitate entry into the building to view comments.

FOR FURTHER INFORMATION CONTACT: Lynn Wright, RAC Committee Coordinator, 707-441-3562; hwright02@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: Review prior year project's progress and to review and recommend project proposals. Additonal information on the Del Norte County Resource Advisory Committee and meeting agenda can be found by contacting the RAC Committee Coordinator listed above. Anyone who would like to bring related matters to the attention of the Committee may file written statements with the Committee staff before or after the meeting The agenda will include time for people to make oral statements of 3 minutes or less. Individuals wishing to make an oral statement should request in writing to be scheduled on the agenda 5 days prior to the meeting date. Written comments and requests for time to present oral comments must be sent to Lynn Wright, RAC Committee Coordinator, 1330 Bayshore Way, Eureka, CA. 95501; Email: hwright02@fs.fed.us; or Facsimile: 707-445-8677.

A summary of the meeting will be posted at http://www.fs.usda.gov/main/srnf/home within 21 days of the meeting.

If you are a person requiring resonable accomodation, please make requests in advance for sign language interpreting, assistive listening devices or other reasonable accomodation for access to the facility or procedings by contacting the person listed under For Further Information Contact. All reasonable accommodation requests are managed on a case by case basis.

Dated: August 9, 2013.
Tyrone Kelley,
Forest Supervisor.

[FR Doc. 2013-19933 Filed 8-15-13; 8:45 am]

BILLING CODE 3410-11-P